DEPARTMENT OF ENERGY

Environmental Management Site-Specific Advisory Board, Oak Ridge

AGENCY: Department of Energy.

ACTION: Notice of open meeting.

SUMMARY: This notice announces a meeting of the Environmental Management Site-Specific Advisory Board (EM SSAB), Oak Ridge Reservation. The Federal Advisory Committee Act (Pub. L. 92-463, 86 Stat. 770) requires that public notice of these meetings be announced in the Federal Register.

DATES: Wednesday, April 9, 2003, 6 p.m.

ADDRESSES: DOE Information Center, 475 Oak Ridge Turnpike, Oak Ridge, TN.

FOR FURTHER INFORMATION CONTACT: Pat Halsey, Federal Coordinator, Department of Energy Oak Ridge Operations Office, PO Box 2001, EM-90, Oak Ridge, TN 37831. Phone (865) 576-4025; Fax (865) 576-5333 or e-mail: halseypj@oro.doe.gov.

SUPPLEMENTARY INFORMATION: Purpose of the Meeting: To provide an update on remediation activities at the Molten Salt Reactor Experiment (MSRE). MSRE operated at Oak Ridge National Laboratory from 1965 to 1969 to test the concept of using molten, radioactive salt for commercial nuclear power reactors. During initial decommissioning activities it was discovered that the potential for nuclear criticality existed due to unstable carbon-fluoride compounds that had formed in the system. Remedial actions were initiated to mitigate risks at MSRE, and a Record of Decision was signed in July 1998 for removal of the fuel and flush salts.

Tentative Agenda:

• Mike Jugan, DOE-Oak Ridge, will provide a historical review of the MSRE project and an update on current and planned activities.

Public Participation: The meeting is open to the public. Written statements may be filed with the Committee either before or after the meeting. Individuals who wish to make oral statements pertaining to agenda items should contact Pat Halsey at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments.

Minutes: Minutes of this meeting will be available for public review and copying at the Department of Energy's Information Center at 475 Oak Ridge Turnpike, Oak Ridge, TN between 8 a.m. and 5 p.m. Monday through Friday, or by writing to Pat Halsey, Department of Energy Oak Ridge Operations Office, PO Box 2001, EM-90, Oak Ridge, TN 37831, or by calling her at (865) 576-4025.

Issued at Washington, DC on March 14, 2003.
Rachel M. Samuel,
Deputy Advisory Committee Management Officer.

[FR Doc. 03-6517 Filed 3-18-03; 8:45 am]

BILLING CODE 6450-01-P